DEPARTMENT OF COMMERCE

National Oceanic and Atmospheric Administration

RIN 0648-XV25

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting to receive public input on longline fishery issues and the future of longline fisheries in the Western Pacific Region.

DATES: The meeting will be held on April 6 and 7, 2010, from 8:30 a.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The meeting will include overviews of the current longline fisheries in Hawaii, American Samoa and in the Commonwealth of the Northern Marianas, longline fishermen's views on fishery issues and challenges, recent Council actions affecting longline fisheries, review of limited entry programs and potential modifications, observer programs, vessel monitoring systems, catch shares, ecosystem changes and impacts on longline fisheries, and emerging international fishery arrangements and longline fisheries. No issues will be the subject of formal action during this meeting. This meeting is for gathering information only, and participants will not be asked to generate recommendations or advice or attempt to reach consensus on any longline fishery issue.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 12, 2010.
Tracey L. Thompson,
Acting Director, Office of Sustainable Fisheries, National Marine Fisheries Service.

[FR Doc. 2010-5780 Filed 3-16-10; 8:45 am]

BILLING CODE 3510-22-S